ENVIRONMENTAL PROTECTION AGENCY

40 CFR Part 52

[EPA-R05-OAR-2020-0387; FRL 10017-05-Region 5]

Air Plan Approval; Indiana; Emissions Reporting Rule

AGENCY: Environmental Protection Agency (EPA).

ACTION: Proposed rule.

SUMMARY: The Environmental Protection Agency (EPA) is proposing to approve a revision to the Indiana State Implementation Plan (SIP) submitted on July 16, 2020, by the Indiana Department of Environmental Management (IDEM). The revision incorporates changes to Indiana's existing emission reporting rule to be consistent with the emissions statement requirements in the Clean Air Act (CAA). The CAA requires stationary sources in ozone nonattainment areas to submit annual emissions statements. The revision to the rule extends the requirements in Indiana's emission reporting rule to Clark and Floyd counties, which were designated nonattainment under the 2015 ozone National Ambient Air Quality Standard (NAAQS) in 2018, and removes the requirement for Lawrenceburg Township in Dearborn County and to LaPorte County, because these areas are currently designated attainment for the 1997, 2008 and 2015 ozone standards.

DATES: Comments must be received on or before March 15, 2021.

ADDRESSES: Submit your comments, identified by Docket ID No. EPA-R05-OAR-2020-0387 at http://www.regulations.gov or via email to blakley.pamela@epa.gov. For comments submitted at Regulations.gov, follow the online instructions for submitting comments. Once submitted, comments cannot be edited or removed from Regulations.gov. For either manner of submission, EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, please contact the person identified in the FOR FURTHER INFORMATION CONTACT section. For the full EPA public comment policy, information about CBI or multimedia submissions, and general guidance on making effective comments, please visit http://www2.epa.gov/dockets/commenting-epa-dockets.

FOR FURTHER INFORMATION CONTACT: Charles Hatten, Environmental Engineer, Control Strategies Section, Air Programs Branch (AR 18J), Environmental Protection Agency, Region 5, 77 West Jackson Boulevard, Chicago, Illinois 60604, (312) 886-6031, hatten.charles@epa.gov. The EPA Region 5 office is open from 8:30 a.m. to 4:30 p.m., Monday through Friday, excluding federal holidays and facility closures due to COVID-19.

SUPPLEMENTARY INFORMATION: Throughout this document whenever “we,” “us,” or “our” is used, we mean EPA.

I. Emissions Statement Rule Requirements

Section 182(a)(3)(B) of the CAA requires states with ozone nonattainment areas to submit revisions to their SIPs to require the owner or operator of each stationary source of volatile organic compounds (VOC) or oxides of nitrogen (NOX) to provide the state with an annual statement documenting the actual emissions of VOC and NOX from their source. This requirement applies to each stationary source emitting greater than or equal to 25 tons per year of VOC or NOX in an ozone nonattainment area.

As EPA has promulgated more stringent NAAQS for ozone in 1997, 2008, and 2015, additional areas in Indiana have been designated as nonattainment. On March 29, 2007 (72 FR 14681), EPA determined that Indiana regulation 326 Indiana Administrative Code (IAC) 2-6, Emission Reporting, satisfied the requirements of CAA Section 182(a)(3)(B) for nonattainment areas under the 1997 ozone NAAQS. The requirement to submit annual emissions statements affected stationary sources located in Lake, Porter, and LaPorte Counties. On April 7, 2017 (82 FR 16926), EPA approved into Indiana's SIP a revised version of 326 IAC 2-6 that extended the emissions reporting requirements to Lawrenceburg Township, Dearborn County, which had been designated nonattainment under the 2008 ozone NAAQS. In a separate action, on April 7, 2017 (82 FR 16934), EPA approved Indiana's emissions reporting requirements for Lake and Porter counties designated nonattainment under the 2008 ozone NAAQS.

On October 26, 2015 (80 FR 65292), EPA promulgated a revised ozone NAAQS of 0.070 parts per million (ppm). Clark and Floyd Counties, Indiana were designated nonattainment for the 2015 ozone NAAQS on August 3, 2018 (83 FR 25776).

Under the existing federally approved SIP for Indiana, the emission statement requirements apply to Lake, Porter, LaPorte, and Dearborn (Lawrenceburg Township) Counties. On July 16, 2020, IDEM submitted a request that EPA approve the revisions to the existing emission reporting rule, 326 IAC 2-6, to be consistent with the current emissions statement requirements for stationary sources in section 182(a)(3)(B) of the CAA.

II. What changes is Indiana requesting?

The changes to the SIP revise the applicability of the emission reporting rule, 326 IAC 2-6-1. IDEM is adding Clark and Floyd Counties, designated nonattainment for the 2015 ozone NAAQS, to the list of areas for which stationary sources that emit 25 tons or more per year of VOC or NOX must submit annual emissions statement to IDEM. In addition, IDEM is removing the applicability of the emission reporting rule to Lawrenceburg Township in Dearborn County and to LaPorte County. Once an area meets the ozone standard and is redesignated to attainment, sources in the area are no longer subject to the emissions statement requirements of the CAA. LaPorte County and Lawrenceburg Township in Dearborn County have both been redesignated to attainment of the ozone standard. LaPorte County was redesignated to attainment of the 1997 ozone standard on July 19, 2007 (72 FR 39574); and designated as attainment of the 2008 ozone standard on May 21, 2012 (77 FR 30088). Lawrenceburg Township in Dearborn County was redesignated to attainment of the 2008 ozone standard on April 7, 2017 (82 FR 16943). Also, these two areas were designated as attainment of the 2015 ozone standard on June 4, 2018 (83 FR 25776) and therefore, they are attaining all ozone standards. Thus, IDEM has revised the applicability of regulation 326 IAC 2-6-1 to discontinue the emission reporting requirement for stationary sources the areas of Lawrenceburg Township in Dearborn County and LaPorte County to submit annual emissions statements.

III. EPA's Analysis of Indiana's Submittal

Indiana's revised version of 326 IAC 2-6-1 appropriately extends the emissions statement requirements to Clark and Floyd Counties, and removes the requirement for Lawrenceburg Township in Dearborn County and LaPorte County. Indiana's emissions reporting rule correctly reflects areas for which the CAA requires stationary sources to submit annual emissions statements.

IV. What action is EPA taking?

As discussed above, EPA is proposing to approve the revisions to the emission reporting rule, 326 IAC 2-6-1, into Indiana's SIP, as submitted on July 16, 2020, to address the CAA emission statement requirement in section 182(a)(3)(B).

V. Incorporation by Reference

In this rule, EPA is proposing to include in a final EPA rule regulatory text that includes incorporation by reference. In accordance with requirements of 1 CFR 51.5, EPA is proposing to incorporate by reference Indiana rule 326 IAC 2-6-1 “Applicability”, effective on April 4, 2020. EPA has made, and will continue to make, these documents generally available through www.regulations.gov and at the EPA Region 5 Office (please contact the person identified in the FOR FURTHER INFORMATION CONTACT section of this preamble for more information).

VI. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting federal requirements and does not impose additional requirements beyond those imposed by state law. For that reason, this action:

• Is not a significant regulatory action subject to review by the Office of Management and Budget under Executive Orders 12866 (58 FR 51735, October 4, 1993) and 13563 (76 FR 3821, January 21, 2011);

• Is not an Executive Order 13771 (82 FR 9339, February 2, 2017) regulatory action because it is not a significant regulatory action under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

List of Subjects in 40 CFR Part 52

Environmental protection, Air pollution control, Incorporation by reference, Nitrogen dioxide, Ozone, Volatile organic compounds.

Dated: February 4, 2021.
Cheryl Newton,
Acting Regional Administrator, Region 5.

[FR Doc. 2021-02742 Filed 2-10-21; 8:45 am]

BILLING CODE 6560-50-P